DEPARTMENT OF DEFENSE

Office of the Secretary

32 CFR Part 68

[Docket No. DOD-2009-OS-0034]

RIN 0790-AI50

Voluntary Education Programs

AGENCY: Office of the Under Secretary of Defense for Personnel and Readiness, DoD.

ACTION: Final rule; notice of stay.

SUMMARY: On Friday, December 7, 2012 (77 FR 72941-72956), the Department of Defense published a final rule in the Federal Register titled Voluntary Education Programs. Subsequent to the publication of that rule, the Department discovered that the effective date in the DATES section was calculated incorrectly. The DoD is taking action to stay the rule to the appropriate effective date.

DATES: Effective January 30, 2013, 32 CFR part 68 is stayed until February 5, 2013.

FOR FURTHER INFORMATION CONTACT: Patricia Toppings, 571-372-0485.

Dated: January 25, 2013.
Aaron Siegel,
Alternate OSD Federal Register Liaison Officer, Department of Defense.

[FR Doc. 2013-01988 Filed 1-29-13; 8:45 am]

BILLING CODE 5001-06-P